DEPARTMENT OF JUSTICE

Drug Enforcement Administration

21 CFR Part 1308

[Docket No. DEA-345C]

Schedules of Controlled Substances: Temporary Placement of Five Synthetic Cannabinoids Into Schedule I; Correction

AGENCY: Drug Enforcement Administration (DEA), U.S. Department of Justice.

ACTION: Notice of Intent; correction.

SUMMARY: On November 24, 2010, the Drug Enforcement Administration (DEA) published a Notice of Intent announcing its intention to temporarily place five synthetic cannabinoids into Schedule I of the Controlled Substances Act. This notice corrects two administrative errors made in that document.

FOR FURTHER INFORMATION CONTACT: Christine A. Sannerud, PhD, Chief, Drug and Chemical Evaluation Section, Office of Diversion Control, Drug Enforcement Administration, 8701 Morrissette Drive, Springfield, VA 22152, telephone (202) 307-7183, fax (202) 353-1263, or e-mail ode@dea.usdoj.gov.

SUPPLEMENTARY INFORMATION: In a November 24, 2010, Notice of Intent published in the Federal Register (75 FR 71635), DEA announced its intention to temporarily place five synthetic cannabinoids into schedule I of the Controlled Substances Act (CSA) pursuant to 21 U.S.C. 811(h). Due to an administrative error, DEA included in that notice a paragraph addressing the Regulatory Flexibility Act (RFA) in the “Regulatory Certifications” section of that document. The provisions of the RFA have no application to temporary scheduling orders issued under 21 U.S.C. 811(h) or to notices of intention to issue such orders. Accordingly, DEA certification under the RFA is not legally required for this temporary scheduling order. Therefore, I hereby order that this paragraph (the first full paragraph in the right column on page 71637), as well as the “Regulatory Flexibility Act” heading that precedes it, be stricken.

DEA also inadvertently included in its Notice of Intent a certification relating to the Congressional Review Act. The Congressional Review Act only applies to “final” rules. Accordingly, inclusion of the paragraph relating to the Congressional Review Act in the Notice of Intent was premature. Therefore, I hereby order that this paragraph (the fifth paragraph in the right column on page 71637 and continued on the top of page 71638), as well as the “Congressional Review Act” heading that precedes it, also be stricken.

Dated: January 7, 2011.
Michele M. Leonhart,
Administrator.

[FR Doc. 2011-683 Filed 1-10-11; 4:15 pm]

BILLING CODE 4410-09-P